DEPARTMENT OF COMMERCE

National Oceanic and Atmospheric Administration

RIN 0648-XD953

Marine Mammals; File No. 19108

AGENCY: National Marine Fisheries Service (NMFS), National Oceanic and Atmospheric Administration (NOAA), Commerce.

ACTION: Notice; receipt of application.

SUMMARY: Notice is hereby given that Daniel P. Costa, Ph.D., University of California at Santa Cruz, Long Marine Laboratory, 100 Shaffer Road, Santa Cruz, CA 95064, has applied in due form for a permit to conduct research on northern elephant seals (Mirounga angustirostris) throughout their range.

DATES: Written, telefaxed, or email comments must be received on or before June 26, 2015.

ADDRESSES: The application and related documents are available for review by selecting “Records Open for Public Comment” from the “Features” box on the Applications and Permits for Protected Species (APPS) home page, https://apps.nmfs.noaa.gov, and then selecting File No. 19108 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include File No. 19108 in the subject line of the email comment.

Those individuals requesting a public hearing should submit a written request to the Chief, Permits and Conservation Division at the address listed above. The request should set forth the specific reasons why a hearing on this application would be appropriate.

FOR FURTHER INFORMATION CONTACT: Amy Sloan or Brendan Hurley, (301) 427-8401.

SUPPLEMENTARY INFORMATION: The subject permit is requested under the authority of the Marine Mammal Protection Act of 1972, as amended (MMPA; 16 U.S.C. 1361 et seq.), and the regulations governing the taking and importing of marine mammals (50 CFR part 216).

The applicant requests authorization to continue a long-term research program started in 1968 to study northern elephant seal population growth and status, reproductive strategies, behavioral and physiological adaptations for diving and fasting, general physiology and metabolism, and sensory physiology. Research methods include behavioral observations, marking, flipper tagging, capture and sampling, attachment of instrumentation for tracking, translocation studies, short-term captive holding for laboratory studies, use of hormone challenges and standard clinical tracer techniques for physiology studies, and acoustic studies. Research would include all age and sex classes of northern elephant seals over the entire calendar year. Proposed research locations include haul-out sites from California to Washington, but primarily Año Nuevo. Incidental harassment and mortalities of northern elephant seals, and incidental harassment of California sea lions (Zalophus californianus), northern fur seals (Callorhinus ursinus), and Steller sea lions (Eumetopias jubatus) of the Eastern Distinct Population Segment is requested. The duration of the requested permit is five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: May 19, 2015.
Julia Harrison,
Chief, Permits and Conservation Division, Office of Protected Resources, National Marine Fisheries Service.

[FR Doc. 2015-12745 Filed 5-26-15; 8:45 am]

BILLING CODE 3510-22-P